DEPARTMENT OF ENERGY

Federal Energy Regulatory Commission

Combined Notice of Filings # 1

December 17, 2008.

Take notice that the Commission received the following electric corporate filings:

Docket Numbers: EC09-30-000.

Applicants: Milford Power Company, LLC.

Description: Application of Milford Power Company, LLC for Order Extending Blanket Authorizations and Amending Reporting Requirements for Certain Future Transactions of Equity Interests under Section 203 of the FPA and Request for Waivers.

Filed Date: 12/12/2008.

Accession Number: 20081212-5133.

Comment Date: 5 p.m. Eastern Time on Friday, January 2, 2009.

Take notice that the Commission received the following electric rate filings:

Docket Numbers: ER98-2259-006.

Applicants: LSP Energy Limited Partnership.

Description: LSP Energy Limited Partnership submits its updated market power analysis for the Southeast Region that demonstrates that it continues to be eligible to make wholesale sales of electric capacity and energy at market based rates.

Filed Date: 12/12/2008.

Accession Number: 20081216-0129.

Comment Date: 5 p.m. Eastern Time on Friday, January 2, 2009.

Docket Numbers: ER05-1410-011; EL05-1410-011.

Applicants: PJM Interconnection, L.L.C.

Description: Report of PJM Interconnection, LLC on stakeholder process.

Filed Date: 12/12/2008.

Accession Number: 20081216-0121.

Comment Date: 5 p.m. Eastern Time on Friday, January 9, 2009.

Docket Numbers: ER05-1491-002.

Applicants: Vermont Yankee Nuclear Power Corporation.

Description: Vermont Yankee Nuclear Power Corporation submits an updated market power analysis, including a list of generation and transmission assets, etc.

Filed Date: 12/12/2008.

Accession Number: 20081216-0130.

Comment Date: 5 p.m. Eastern Time on Tuesday, February 10, 2009.

Docket Numbers: ER08-1419-002.

Applicants: Southwest Power Pool, Inc.

Description: Southwest Power Pool, Inc submits compliance amendments addressing availability of software design results etc.

Filed Date: 12/15/2008.

Accession Number: 20081217-0078.

Comment Date: 5 p.m. Eastern Time on Monday, January 5, 2009.

Docket Numbers: ER08-1552-001.

Applicants: Sierra Pacific Resources Operating Company.

Description: Nevada Companies submits revisions to the Sierra Pacific Resources Operating Companies FERC Electric Tariff Revised Volume 1 Open Access Transmission Tariff.

Filed Date: 12/12/2008.

Accession Number: 20081216-0128.

Comment Date: 5 p.m. Eastern Time on Friday, January 2, 2009.

Docket Numbers: ER08-1584-003.

Applicants: Black Hills Power, Inc.

Description: Black Hills Power, Inc. submits a Settlement Agreement and substitute pages under the Joint Open Access Transmission Tariff for the Common Use System.

Filed Date: 12/12/2008.

Accession Number: 20081216-0131.

Comment Date: 5 p.m. Eastern Time on Friday, January 2, 2009.

Docket Numbers: ER09-70-001.

Applicants: Niagara Mohawk Power Corporation.

Description: Refund Report regarding Carr Street Interconnection Agreement.

Filed Date: 12/15/2008.

Accession Number: 20081215-5153.

Comment Date: 5 p.m. Eastern Time on Monday, January 5, 2009.

Docket Numbers: ER09-172-001.

Applicants: Canandaigua Power Partners I, LLC.

Description: Canandaigua Power Partners I, LLC submits revised Substitute Original Sheet 1 et al. to FERC Electric Tariff, Original Volume 1 pursuant to Section 5a of the tariff, etc.

Filed Date: 12/12/2008.

Accession Number: 20081216-0123.

Comment Date: 5 p.m. Eastern Time on Friday, January 2, 2009.

Docket Numbers: ER09-173-001.

Applicants: Canandaigua Power Partners II, LLC.

Description: Canandaigua Power Partners II, LLC submits revised Substitute Original Sheet 1 et al to FERC Electric Tariff, Original Volume 1 pursuant to Section 5a of the tariff, etc.

Filed Date: 12/12/2008.

Accession Number: 20081216-0124.

Comment Date: 5 p.m. Eastern Time on Friday, January 2, 2009.

Docket Numbers: ER09-174-001.

Applicants: Evergreen Wind Power V, LLC.

Description: Evergreen Wind Power V, LLC submits revised Substitute Original Sheet 1 et al. to FERC Electric Tariff, Original Volume 1 pursuant to Section 5a of the tariff, etc.

Filed Date: 12/12/2008.

Accession Number: 20081216-0122.

Comment Date: 5 p.m. Eastern Time on Friday, January 2, 2009.

Docket Numbers: ER09-360-000.

Applicants: Pacific Gas and Electric Company.

Description: Pacific Gas and Electric Co submit revisions to its Generator Special Facilities Agreement etc re Shiloh Wind Project 2, LLC.

Filed Date: 11/28/2008.

Accession Number: 20081209-0201.

Comment Date: 5 p.m. Eastern Time on Wednesday, December 24, 2008.

Docket Numbers: ER09-406-000.

Applicants: Juice Energy, Inc.

Description: Juice Energy, Inc submits Notice of Cancellation of Third Revised Rate Schedule FERC 1, effective 12/31/08 under ER09-406 et al.

Filed Date: 12/11/2008.

Accession Number: 20081215-0219.

Comment Date: 5 p.m. Eastern Time on Friday, January 2, 2009.

Docket Numbers: ER09-408-000.

Applicants: PacifiCorp.

Description: PacifiCorp submits Twelve Unexecuted Conditional Firm Transmission Service Agreements with CEP Funding, LLC designated as Service Agreement 516 through 527 under Seventh Revised Volume 11 etc.

Filed Date: 12/12/2008.

Accession Number: 20081216-0127.

Comment Date: 5 p.m. Eastern Time on Friday, January 2, 2009.

Docket Numbers: ER09-409-000.

Applicants: WestConnect.

Description: WestConnect et al. submits the WestConnect Point-To-Point regional Transmission Service Experiment Participant Agreement etc.

Filed Date: 12/12/2008.

Accession Number: 20081216-0133.

Comment Date: 5 p.m. Eastern Time on Friday, January 2, 2009.

Docket Numbers: ER09-410-000.

Applicants: Delmarva Power & Light Company.

Description: Delmarva Power & Light Co. submits an executed Construction Agreement with Delaware Electric Cooperative designated as Original Service Agreement 2066 etc.

Filed Date: 12/12/2008.

Accession Number: 20081216-0126.

Comment Date: 5 p.m. Eastern Time on Friday, January 2, 2009.

Docket Numbers: ER09-411-000.

Applicants: Midwest Independent Transmission System.

Description: Midwest Independent Transmission System Operator, Inc submits proposed revisions to its Open Access Transmission, Energy and Operating Reserve Markets Tariff.

Filed Date: 12/12/2008.

Accession Number: 20081216-0125.

Comment Date: 5 p.m. Eastern Time on Friday, January 2, 2009.

Docket Numbers: ER09-412-000.

Applicants: PJM Interconnection, L.L.C.

Description: PJM Interconnection, LLC submits amendments to the PJM Open Access Transmission Tariff and the Reliability Assurance Agreement.

Filed Date: 12/12/2008.

Accession Number: 20081216-0132.

Comment Date: 5 p.m. Eastern Time on Friday, January 2, 2009.

Docket Numbers: ER09-415-000.

Applicants: Pacific Gas and Electric Company.

Description: Pacific Gas and Electric Co submits the annual adjustment to a transmission service rate under the Interconnection Agreement with the City and County of San Francisco, designated as Revised Rate Schedule FERC 114.

Filed Date: 12/15/2008.

Accession Number: 20081217-0081.

Comment Date: 5 p.m. Eastern Time on Monday, January 5, 2009.

Take notice that the Commission received the following open access transmission tariff filings:

Docket Numbers: OA09-13-000.

Applicants: Langdon Wind, LLC.

Description: Langdon Wind, LLC's Petition for Waiver of Commission Rules.

Filed Date: 12/16/2008.

Accession Number: 20081216-5053.

Comment Date: 5 p.m. Eastern Time on Tuesday, January 06, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-30755 Filed 12-24-08; 8:45 am]

BILLING CODE 6717-01-P